DEPARTMENT OF DEFENSE

Office of the Secretary

[Transmittal No. 21-15]

Arms Sales Notification

Correction

In notice document 2025-22604, appearing on page 57741 in the issue of Friday, December 12, 2025, an incorrect graphic of a letter published on page 57742. The letter is corrected to read as set forth below.

BILLING CODE 0099-10-P

[FR Doc. C1-2025-22604 Filed 2-13-26; 8:45 am]

BILLING CODE 0099-10-C